DEPARTMENT OF TRANSPORTATION

Federal Highway Administration

Notice of Final Federal Agency Action on Proposed Highway in Illinois

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, the Prairie Parkway, for construction of an access-controlled, four-lane freeway on new right-of-way between 1-80 and 1-88 and the widening of IL-47 to four-lanes from 1-80 to Caton Farm Road in Grundy, Kendall and Kane Counties, Illinois. Those actions grant licenses, permits and approvals for the project.

DATES: By this notice, the FHWA is advising the public of final agency actions subject to 23 U.S.C. 139(l)(1). A claim seeking judicial review of the Federal agency actions of the highway project will be barred unless the claim is filed on or before March 25, 2009. If the Federal law that authorizes judicial review of a claim provides a time period of less than 180 days for filing such claim, then that shorter time period still applies.

FOR FURTHER INFORMATION CONTACT: Mr. Norman R. Stoner, P.E., Division Administrator, Federal Highway Administration, 3250 Executive Park Drive, Springfield, Illinois 62703, Phone: (217) 492-4600, E-mail address: Norman.Stoner@fhwa.dot.gov. The FHWA Illinois Division Office's normal business hours are 7:30 a.m. to 4:15 p.m. You may also contact Mr. George F. Ryan, P.E., Illinois Department of Transportation, Deputy Director of Highways, Region Two Engineer, 700 E. Norris Drive, Ottawa, Illinois 61350, Phone: (815) 434-6131, e-Mail address: George.Ryan@illinois.gov. The Illinois Department of Transportation Region Two's normal business hours are 8 a.m. to 4:30 p.m.

SUPPLEMENTARY INFORMATION: Notice is hereby given that the FHWA and other Federal agencies have taken final agency actions by issuing licenses, permits and approvals for the following highway project in the State of Illinois: construction of a 37.1 mile, access controlled, four-lane freeway on new right-of-way between 1-80 and 1-88 (the Prairie Parkway) and the widening of 11.5 miles of IL-47 to four lanes from 1-80 to Caton Farm Road. The actions by the Federal agencies, and the laws under which such actions were taken, are described in the Final Environmental Impact Statement (FEIS) for the project approved on February 15, 2008; and the Record of Decision (ROD) issued on September 19, 2008; and other documents in the FHWA administrative record. The FEIS, ROD and other documents in the FHWA administrative record are available by contacting FHWA or the Illinois Department of Transportation at the addresses above. Project information can also be viewed and downloaded from the project Web site at http://www.prairie-parkway.com and the FEIS can be downloaded from http://www.dot.il.gov/desenv/env.html or hard copies of the FEIS and the ROD are available upon request.

This notice applies to all Federal agency decisions as of the issuance date of this notice and all laws under which such actions were taken, including, but not limited to:

1. General: National Environmental Policy Act (NEPA) [42 U.S.C. 4321-4351] Federal-Aid Highway Act [23 U.S.C. 109].

2. Air: Clean Air Act [42 U.S.C. 7401-7671(q)].

3. Land: Section 4(f) of the Department of Transportation Act of 1966 [49 U.S.C. 303].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.]; Archaeological and Historic Preservation Act (AHPA) [16 U.S.C. 469-469(c)].

6. Social and Economic: Civil Rights Act of 1964 [42 U.S.C. 2000(d) 2000(d)(1)]; Farmland Protection Policy Act (FPPA) [7 U.S.C. 4201-4209].

7. Wetlands and Water Resources: Clean Water Act (Section 401 and 404) [33 U.S.C. 1251-1377]; Wild and Scenic Rivers Act [16 U.S.C. 1271-1287].

8. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program).

Authority: 23 U.S.C. 139(l)(1).

Issued on: September 19, 2008.
Norman R. Stoner,
Division Administrator, Springfield, Illinois.

[FR Doc. E8-22598 Filed 9-25-08; 8:45 am]

BILLING CODE 4910-22-M